DEPARTMENT OF ENERGY

Federal Energy Regulatory Commission

Combined Notice of Filings # 1

March 11, 2008.

Take notice that the Commission received the following electric rate filings:

Docket Numbers: ER98-4421-009; ER96-2350-028; ER99-791-007; ER99-806-006; ER99-3677-008; ER01-570-009; ER00-2187-004.

Applicants: Consumers Energy Company; CMS Energy Resource Management Company; Grayling Generating Station Limited Partnership; Genesee Power Station Ltd. Partnership; CMS Generation Michigan Power, L.L.C.; Dearborn Industrial Generation, L.L.C.; CMS Distributed Power, L.L.C.

Description: Consumers Energy submits a notice of non-material change in status in connection with Consumers' acquisition of the Zeeland Power Company et al.

Filed Date: 03/06/2008.

Accession Number: 20080310-0180.

Comment Date: 5 p.m. Eastern Time on Thursday, March 27, 2008.

Docket Numbers: ER00-1026-015.

Applicants: Indianapolis Power & Light Company.

Description: Indianapolis Power & Light Co submits a change in status filing re the acquisition of the Georgetown Unit 4.

Filed Date: 02/27/2008.

Accession Number: 20080303-0209.

Comment Date: 5 p.m. Eastern Time on Wednesday, March 19, 2008.

Docket Numbers: ER06-615-021; ER02-1656-036; ER07-1257-003; EL08-20-000; EL05-146-007.

Applicants: California Independent System Operator Corporation.

Description: California Independent System Operator submits the instant filing in compliance with Commission's Order on Clarification.

Filed Date: 03/05/2008.

Accession Number: 20080310-0181.

Comment Date: 5 p.m. Eastern Time on Wednesday, March 26, 2008.

Docket Numbers: ER08-106-001.

Applicants: Pacific Gas and Electric Company.

Description: Compliance Refund Report re: the Nineteenth Quarterly Filing of Facilities Agreements between PG&E and CCSF of Pacific Gas and Electric Company.

Filed Date: 03/10/2008.

Accession Number: 20080311-5002.

Comment Date: 5 p.m. Eastern Time on Monday, March 31, 2008.

Docket Numbers: ER08-356-001.

Applicants: Dynegy Power Marketing, Inc.

Description: Dynegy Power Marketing Inc submits their responses to FERC's Request Letter dated 2/15/08.

Filed Date: 03/07/2008.

Accession Number: 20080311-0156.

Comment Date: 5 p.m. Eastern Time on Friday, March 28, 2008.

Docket Numbers: ER08-358-001.

Applicants: Commonwealth Edison Company.

Description: Commonwealth Edison of Indiana Inc's CD containing their Response to Deficiency Letter issued by FERC Trail Staff on 2/15/08.

Filed Date: 03/06/2008.

Accession Number: 20080306-4007.

Comment Date: 5 p.m. Eastern Time on Thursday, March 27, 2008.

Docket Numbers: ER08-422-001; ER08-423-001.

Applicants: Puget Sound Energy, Inc.

Description: Puget Sound Energy, Inc submits a network Integration Transmission Service Agreement designated as FERC Rate Schedule 438, Original Sheet 1-14 with Bonneville Power Administration etc.

Filed Date: 03/07/2008.

Accession Number: 20080311-0160.

Comment Date: 5 p.m. Eastern Time on Friday, March 28, 2008.

Docket Numbers: ER08-510-001.

Applicants: Xcel Energy Services Inc.

Description: Northern States Power Company et al. submits an Amendment to their filing dated 1/31/08 of Notices of Cancellation for 109 legacy point-to-point transmission service agreements w/Luverne Municipal Utilities.

Filed Date: 03/07/2008.

Accession Number: 20080311-0155.

Comment Date: 5 p.m. Eastern Time on Friday, March 28, 2008.

Docket Numbers: ER08-577-001.

Applicants: Noble Bellmont Windpark, LLC.

Description: Noble Bellmont Windpark, LLC submits an amendment to their 2/19/08 application for authorization to sell electric energy, capacity and ancillary services at market based rates.

Filed Date: 03/07/2008.

Accession Number: 20080311-0158.

Comment Date: 5 p.m. Eastern Time on Friday, March 21, 2008.

Docket Numbers: ER08-578-001.

Applicants: Noble Chateaugay Windpark, LLC.

Description: Noble Chateaugay Windpark, LLC submits an amendment to their 2/19/08 application to sell electric energy, capacity and ancillary services at market-based rates.

Filed Date: 03/07/2008.

Accession Number: 20080311-0157.

Comment Date: 5 p.m. Eastern Time on Friday, March 21, 2008.

Docket Numbers: ER08-579-001.

Applicants: Noble Wethersfield Windpark, LLC.

Description: Noble Wethersfield Windpark, LLC submits an amendment to their 2/19/08 application for authorization to sell electric energy, capacity and ancillary services at market-based rates.

Filed Date: 03/07/2008.

Accession Number: 20080311-0159.

Comment Date: 5 p.m. Eastern Time on Friday, March 21, 2008.

Docket Numbers: ER08-615-001.

Applicants: Central Vermont Public Service Corp.

Description: The Filing Schedule 20A Service Providers submits its 1st Revised Sheet 1023 to Schedule 20A-GMP of the ISO New England Inc Open Access Transmission Tariff which was inadvertently designated as Orig Sheet 1023 etc.

Filed Date: 03/07/2008.

Accession Number: 20080311-0152.

Comment Date: 5 p.m. Eastern Time on Friday, March 28, 2008.

Docket Numbers: ER08-616-000.

Applicants: Avista Corporation.

Description: Avista Corp submits revised sheets to its Amended and Restated Power Transfer Agreement with Public Utility District #2 of Grant County, WA.

Filed Date: 02/29/2008.

Accession Number: 20080304-0235.

Comment Date: 5 p.m. Eastern Time on Friday, March 21, 2008.

Docket Numbers: ER08-620-000.

Applicants: Luke Paper Company.

Description: Luke Paper Company submits Application for Market-Based Rate Authorization, Certain Waivers and Blanket Authorizations under ER08-620.

Filed Date: 02/29/2008.

Accession Number: 20080304-0233.

Comment Date: 5 p.m. Eastern Time on Friday, March 21, 2008.

Docket Numbers: ER08-622-000.

Applicants: Midwest Independent Transmission System.

Description: Midwest Independent Transmission System Operator Inc submits proposed revisions to the Credit Policy in Attachment L of the Open Access Transmission and Energy Markets Tariff.

Filed Date: 02/29/2008.

Accession Number: 20080304-0231.

Comment Date: 5 p.m. Eastern Time on Friday, March 21, 2008.

Docket Numbers: ER08-641-000.

Applicants: PJM Interconnection, L.L.C.

Description: PJM Interconnection LLC submits an executed Interconnection Service Agreement with Pennsylvania Renewable Resources Associates and Pennsylvania Electric Company et al.

Filed Date: 03/06/2008.

Accession Number: 20080307-0080.

Comment Date: 5 p.m. Eastern Time on Thursday, March 27, 2008.

Docket Numbers: ER08-643-000.

Applicants: Duke Energy Indiana, Inc.

Description: Duke Energy Indiana Inc submits FERC Electric Rate Schedule 1.

Filed Date: 03/06/2008.

Accession Number: 20080307-0081.

Comment Date: 5 p.m. Eastern Time on Thursday, March 27, 2008.

Docket Numbers: ER08-644-000.

Applicants: Southern California Edison Company.

Description: Southern California Edison Company submits Small Generator Interconnection Agreement and the Service Agreement for Wholesale Distribution Service with Garnet Energy Corp.

Filed Date: 03/06/2008.

Accession Number: 20080307-0082.

Comment Date: 5 p.m. Eastern Time on Thursday, March 27, 2008.

Docket Numbers: ER08-645-000.

Applicants: Southwest Power Pool, Inc.

Description: Southwest Power Pool, Inc submits an executed Service Agreement for Network Integration Transmission Service between SPP as Transmission Provider and The Empire District Electric Company as Network Customer.

Filed Date: 03/06/2008.

Accession Number: 20080310-0184.

Comment Date: 5 p.m. Eastern Time on Thursday, March 27, 2008.

Docket Numbers: ER08-646-000.

Applicants: Northeast Utilities Service Company.

Description: Northeast Utilities Service Company submits a Notice of Cancellation cancelling a Service Agreement for long-term firm transmission service dated 12/23/93 and a Service Agreement for long-term non-firm transmission service dated 8/22/94 etc.

Filed Date: 03/07/2008.

Accession Number: 20080310-0183.

Comment Date: 5 p.m. Eastern Time on Friday, March 28, 2008.

Docket Numbers: ER08-647-000.

Applicants: Entergy Services, Inc.

Description: Entergy Louisiana, LLC et al. submits an executed Transmission Assets Maintenance and Emergency Service Agreement.

Filed Date: 03/07/2008.

Accession Number: 20080311-0162.

Comment Date: 5 p.m. Eastern Time on Friday, March 28, 2008.

Docket Numbers: ER08-648-000.

Applicants: Alpha Energy Master, Ltd.

Description: Alpha Energy Master, Ltd submits Notice of Cancellation for Market Based Rate Authority and Schedule et al.

Filed Date: 03/07/2008.

Accession Number: 20080311-0161.

Comment Date: 5 p.m. Eastern Time on Friday, March 28, 2008

Take notice that the Commission received the following electric securities filings:

Docket Numbers: ES08-33-000.

Applicants: North Western Corporation.

Description: Application of NorthWestern Corporation and Authorization to Issue Securities and Request for Shortened Comment Period re NorthWestern Corporation.

Filed Date: 03/06/2008.

Accession Number: 20080310-0187.

Comment Date: 5 p.m. Eastern Time on Thursday, March 27, 2008.

Docket Numbers: ES08-34-000.

Applicants: Detroit Edison Company.

Description: Application of the Detroit Edison Company for authorization to issue securities and request for exemption from competitive bidding requirements.

Filed Date: 03/11/2008.

Accession Number: 20080311-5007.

Comment Date: 5 p.m. Eastern Time on Tuesday, April 01, 2008.

Take notice that the Commission received the following open access transmission tariff filings:

Docket Numbers: OA07-48-001.

Applicants: Tucson Electric Power Company.

Description: Tuscson Electric Power Company submits revised Open Access Transmission Tariff Sheets designated as First Revised Sheet 20 et al. to FERC Electric Tariff, Fourth Revised Volume 2, effective 7/13/07.

Filed Date: 03/07/2008.

Accession Number: 20080311-0154.

Comment Date: 5 p.m. Eastern Time on Friday, March 28, 2008.

Docket Numbers: OA07-49-001.

Applicants: UNS Electric, Inc.

Description: UNS Electric Inc submits First Revised Sheet 21 et al. to FERC Electric Tariff, First Revised Volume 1, effective 7/13/07.

Filed Date: 03/07/2008.

Accession Number: 20080311-0153.

Comment Date: 5 p.m. Eastern Time on Friday, March 28, 2008.

Docket Numbers: OA07-102-000.

Applicants: Mid-Continent Area Power Pool.

Description: Order No. 890 Attachment C Compliance Filing of Mid-Continent Area Power Pool.

Filed Date: 03/10/2008.

Accession Number: 20080310-5089.

Comment Date: 5 p.m. Eastern Time on Monday, March 31, 2008.

Take notice that the Commission received the following PURPA 210(m)(3) filings:

Docket Numbers: QM08-4-000.

Applicants: Virginia Electric and Power Company.

Description: Application of Virginia Electric and Power Company for relief from the Mandatory Purchase Obligation of Section 292.303(a).

Filed Date: 03/10/2008.

Accession Number: 20080311-5013.

Comment Date: 5 p.m. Eastern Time on Monday, April 07, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC.

There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E8-5374 Filed 3-17-08; 8:45 am]

BILLING CODE 6717-01-P